Proclamation 8138 of May 1, 2007

National Physical Fitness and Sports Month, 2007

By the President of the United States of America

A Proclamation

National Physical Fitness and Sports Month is an opportunity to educate Americans about the importance of healthy habits and regular physical activity. During this annual observance, we renew our commitment to helping keep our citizens physically active, and we recognize the value of incorporating exercise and sports into our daily lives.

Regular physical activity is vital to good health. By maintaining an active lifestyle, citizens can reduce their risk of developing chronic health conditions. Participating in outdoor activities and individual or team sports helps promote physical fitness. These activities also teach young people important life lessons, including teamwork, patience, and discipline.

My Administration is committed to helping ensure the good health of all Americans. This year is the fifth anniversary of the HealthierUS initiative, which helps Americans improve their personal health and fitness and prevent disease. The President's Council on Physical Fitness and Sports is spreading the message that a healthy America is a country that is physically active. Additionally, this year the Department of Health and Human Services and its partners launched a public awareness campaign to promote exercise and eating well to America's youth. This campaign encourages kids to “Be a Player: Get Up and Play an Hour a Day.” To find out other ways to improve health, Americans can visit fitness.gov or presidentschallenge.org. By making physical fitness a priority, our citizens can help prevent disease and live healthier lives.

NOW, THEREFORE I, GEORGE W. BUSH, President of the United States of America, by virtue of the authority vested in me by the Constitution and laws of the United States, do hereby proclaim May 2007 as National Physical Fitness and Sports Month. I call upon my fellow citizens to participate in athletic activities and make physical fitness a priority in their lives. I also encourage individuals, schools, and communities to celebrate this month with appropriate activities and programs.

IN WITNESS WHEREOF, I have hereunto set my hand this first day of May, in the year of our Lord two thousand seven, and of the Independence of the United States of America the two hundred and thirty-first.

[FR Doc. 07-2219

Filed 5-2-07; 8:54 am]

Billing code 3195-01-P